DEPARTMENT OF HOMELAND SECURITY

Coast Guard

46 CFR Part 401

[USCG-2002-11288]

RIN 1625-AA38 [Formerly RIN 2115-AG30]

Rates for Pilotage on the Great Lakes

AGENCY: Coast Guard, Department of Homeland Security.

ACTION: Interim rule; correction.

SUMMARY: This document contains corrections to the interim rule published in the Federal Register on March 10, 2005. The interim rule establishes new rates for pilotage on the Great Lakes.

DATES: Effective on March 29, 2005.

FOR FURTHER INFORMATION CONTACT: For questions on this correction document, call or e-mail Paul Wasserman, Director, Office of Great Lakes Pilotage (G-MW-1), U.S. Coast Guard, at telephone 202-267-2856, or pwasserman@comdt.uscg.mil.

SUPPLEMENTARY INFORMATION:

Need for Correction

The interim rule, as published, contained incorrect column headings in two tables and an incorrect date. These errors could confuse the reader and need to be corrected.

Correction of Publication

Accordingly, the publication on March 10, 2005, of the interim rule [USCG-2002-11288], FR Doc. 05-4586, is corrected as follows:

1. On page 12097, in the table entitled “District Three—Projected Rate of Return on Investment”, change the column heading “Total district” to read “Total district three”.

2. On page 12098, in the table entitled “District Three—Adjustment Determination”, change the column heading “Total district” to read “Total district three”.

3. On page 12100, in column one, in line 16 under “Regulatory Evaluation”, change the words “March 1, 2005” to read “April 11, 2005”.

Dated: March 21, 2005.
S.G. Venckus,
Chief, Regulations and Administrative Law, United States Coast Guard, DHS.

[FR Doc. 05-6139 Filed 3-28-05; 8:45 am]

BILLING CODE 4910-15-P